DEPARTMENT OF COMMERCE

International Trade Administration

[A-583-863]

Forged Steel Fittings From Taiwan: Final Results of Antidumping Duty Administrative Review; 2019-2020

AGENCY: Enforcement and Compliance, International Trade Administration, Department of Commerce.

SUMMARY: The Department of Commerce (Commerce) determines that Both-Well Steel Fittings Co., Ltd (Bothwell) made sales of subject merchandise in the United States at prices below normal value during the period of review (POR), September 1, 2019, through August 31, 2020.

DATES: Applicable December 27, 2021.

FOR FURTHER INFORMATION CONTACT: George Ayache or Samuel Glickstein, AD/CVD Operations, Office VIII, Enforcement and Compliance, International Trade Administration, U.S. Department of Commerce, 1401 Constitution Avenue NW, Washington, DC 20230; telephone: (202) 482-2623 or (202) 482-5307, respectively.

SUPPLEMENTARY INFORMATION:

Background

On August 30, 2021, Commerce published the preliminary results of the 2019-2020 administrative review of the antidumping duty order on forged steel fittings from Taiwan.¹ This review covers one producer/exporter of the subject merchandise, Bothwell. For the events that occurred since Commerce published the Preliminary Results, as well as a full discussion of the issues raised by parties for these final results, see the Issues and Decision Memorandum.² Commerce conducted this review in accordance with section 751(a)(1)(B) of the Tariff Act of 1930, as amended (the Act).

¹ See Forged Steel Fittings from Taiwan: Preliminary Results of Antidumping Duty Administrative Review; 2019-2020, 86 FR 48401 (August 30, 2021) (Preliminary Results), and accompanying Preliminary Decision Memorandum.

² See Memorandum, “Issues and Decision Memorandum for the Final Results of the 2019-2020 Antidumping Duty Administrative Review of Forged Steel Fittings from Taiwan,” dated concurrently with, and hereby adopted by, this notice (Issues and Decision Memorandum).

Scope of the Order ³

³ See Forged Steel Fittings from Taiwan: Antidumping Duty Order, 83 FR 48280 (September 24, 2018) (Order).

The products covered by this Order are forged steel fittings from Taiwan. A full description of the scope of the Order is contained in the Issues and Decision Memorandum.

Analysis of Comments Received

In the Issues and Decision Memorandum, we address the sole issue raised in the case and rebuttal briefs submitted by interested parties as reflected in the list of topics provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on the comments received from interested parties and record information, we made no changes to our preliminary weighted-average dumping margin calculations for Bothwell.

Final Results of the Administrative Review

We determine that the following weighted-average dumping margin exists for Bothwell for the period September 1, 2019, through August 31, 2020:

Exporter/producer | Weighted- average dumping margin (percent)
Both-Well Steel Fittings Co., Ltd | 5.57

Disclosure

Normally, Commerce will disclose to the parties in a proceeding the calculations performed in connection with the final results of review in accordance with 19 CFR 351.224(b). However, because Commerce made no adjustments to the margin calculation methodology used in the Preliminary Results, there are no calculations to disclose for the final results of review.

Assessment Rates

Commerce has determined, and U.S. Customs and Border Protection (CBP) shall assess, antidumping duties on all appropriate entries of subject merchandise in accordance with the final results of this review.⁴ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁴ See 19 CFR 351.212(b).

Pursuant to 19 CFR 351.212(b)(1), because the respondent did not report entered value, we calculated importer-specific per-unit duty assessment rates based on the ratio of the total amount of antidumping duties calculated for the examined sales to the total quantity of those sales. Where either the respondent's weighted-average dumping margin is zero or de minimis (i.e., less than 0.5 percent) within the meaning of 19 CFR 351.106(c)(1), or an importer-specific assessment rate is zero or de minimis, we will instruct CBP to liquidate appropriate entries without regard to antidumping duties.⁵ To determine whether an importer-specific per-unit duty assessment rate is de minimis, we calculated an estimated entered value.

⁵ See Antidumping Proceedings: Calculation of the Weighted-Average Dumping Margin and Assessment Rate in Certain Antidumping Proceedings: Final Modification, 77 FR 8101, 8102 (February 14, 2012).

The final results of this review shall be the basis for the assessment of antidumping duties on entries of merchandise covered by the final results of this review and for future deposits of estimated duties, where applicable.⁶

⁶ See section 751(a)(2)(C) of the Act.

Consistent with Commerce's clarification of its assessment practice, for entries of subject merchandise during the POR produced by Bothwell for which it did not know the merchandise was destined for the United States, we will instruct CBP to liquidate unreviewed entries at the all-others rate if there is no rate for the intermediate company(ies) involved in the transaction.⁷

⁷ For a full discussion of this practice, see Antidumping and Countervailing Duty Proceedings: Assessment of Antidumping Duties, 68 FR 23954 (May 6, 2003).

Cash Deposit Requirements

The following cash deposit requirements will be effective for all shipments of forged steel fittings from Taiwan entered, or withdrawn from warehouse, for consumption on or after the date of publication of the final results as provided by section 751(a)(2) of the Act: (1) The cash deposit rate for Bothwell will be equal to the weighted-average dumping margin established in the final results of this review; (2) for merchandise exported by producers or exporters not covered in this review but covered in a prior completed segment of the proceeding, the cash deposit rate will continue to be the company-specific rate published in the completed segment for the most recent period; (3) if the exporter is not a firm covered in this review or the original less-than-fair-value (LTFV) investigation, but the producer is, then the cash deposit rate will be the rate established in the completed segment for the most recent period for the producer of the merchandise; (4) the cash deposit rate for all other producers or exporters will continue to be 116.17 percent, the all-others rate established in the LTFV investigation.⁸ These cash deposit requirements, when imposed, shall remain in effect until further notice.

⁸ See Order, 83 FR at 48281.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing this notice in accordance with sections 751(a)(1) and 777(i)(1) of the Act, and 19 CFR 351.221(b)(5).

Dated: December 20, 2021.
Ryan Majerus,
Deputy Assistant Secretary for Policy and Negotiations, Performing the Non-Exclusive Functions and Duties of the Assistant Secretary for Enforcement and Compliance.

Appendix—List of Topics Discussed in the Issues and Decision Memorandum

I. Summary

II. Background

III. Scope of the Order

IV. Discussion of the Issue

Comment: Whether Commerce Should Request Additional Information From Bothwell

V. Recommendation

[FR Doc. 2021-28070 Filed 12-23-21; 8:45 am]

BILLING CODE 3510-DS-P